DEPARTMENT OF THE INTERIOR

Bureau of Land Management

[AZ-917-02-1430-EU; AZA-32028]

Arizona, Notice of Application for Public Lands for State Indemnity Selection

AGENCY: Bureau of Land Management, Interior.

ACTION: Notice of application.

SUMMARY: Under the provisions of Sections 2275 and 2276 of the Revised Statutes, (43 U.S.C. Sections 851, 852), the State of Arizona has filed application AZA-32028 to acquire public lands in lieu of certain school lands that were encumbered by other rights or reservations before the State's title could attach. Pursuant to the provisions of 43 CFR 2091.3-1 the lands described below are segregated from settlement, sale, locations or entry under the public land laws, including the mining laws, but not the mineral leasing laws or Geothermal Steam Act, as applicable to each of the following:

Group I: Application for Oil and Gas Only

Gila and Salt River Meridian, Arizona

T. 9 N., R. 30 E.

Sec. 13, SW¼SW¼;

Sec. 24, NE¼.

T. 9 N., R. 31 E.

Sec. 3, Lots 1-3, inclusive, Lots 5-7, inclusive, SW¼NE¼, SE¼NW¼;

Sec. 10, Lots 1-4, inclusive, W½E½, E½W½;

Sec. 15, Lots 1-4, inclusive, W½NE¼;

Sec. 22, Lots 3 and 4, SW¼SE¼, SE¼SW¼;

Sec. 27, Lots 1-3, inclusive, W½NE¼, NE¼NW¼, NW¼SE¼.

T. 10 N., R. 30 E.

Sec. 25, All.

The areas described aggregate approximately 1,852.98 acres, more or less.

Group II: Application for All Minerals, including Oil and Gas

Gila and Salt River Meridian, Arizona

T. 10 N., R. 30 E.

Sec. 11, SE¼, SE¼SW¼;

Sec. 14, All;

Sec. 23, All;

Sec. 33, W½NE¼, W½, NW¼SE¼, S½SE¼.

T. 11 N., R. 29 E.

Sec. 21, E½SE¼;

Sec. 22, NW¼SW¼;

Sec. 23, NW¼SW¼.

T. 11 N., R. 31 E.

Sec. 30, Lots 1-4, inclusive, E½, E½W½.

T. 12 N., R. 29 E.

Sec. 24, All.

T. 12 N., R. 30 E.

Sec. 19, Lots 2-4, inclusive, S½NE¼, SE¼NW¼, E½SW¼, SE¼;

Sec. 20,S½N½, S½;

Sec. 24, All;

Sec. 25, All;

Sec. 27, W½, SE¼.

T. 12 N., R. 31 E.

Sec. 18, Lots 1-4, inclusive, E½, E½W½;

Sec. 19, Lots 1-4, inclusive, E½, E½W½;

Sec. 20, All;

Sec. 29, All;

Sec. 30, Lots 1-4, inclusive, E½, E½W½;

Sec. 31, Lots 1-4, inclusive, E½, E½W½.

The areas described aggregate approximately 9,963.62 acres, more or less.

Group III: Application for Surface and Subsurface (Minerals and Oil and Gas)

Gila and Salt River Meridian, Arizona

T. 12 N., R. 29 E.

Sec. 32, E½E½.

T. 12 N., R. 30 E.

Sec. 8, S½S½;

Sec. 21, All;

Sec. 28, All;

Sec. 29, All;

Sec. 34, All;

Sec. 35, W½, SE¼

.

The areas described aggregate approximately 3,360.00 acres, more or less.

Group IV: Application for Surface Only

Gila and Salt River Meridian, Arizona

T. 12 N., R. 28 E.

Sec. 14, E½NE¼, NW¼NE¼, W½NW¼, NW¼SW¼, W½SE¼, SE¼SE¼.

T. 12 N., R. 29 E.

Sec. 12, N½NE¼, SW¼NE¼, W½NW¼;

Sec. 18, Lots 2-4, inclusive, SW¼NE¼, E½SW¼, SE¼;

Sec. 20, SE¼SE¼;

Sec. 21, NE¼, N½NW¼, SE¼NW¼, S½;

Sec. 27, All;

Sec. 28, All.

T. 12 N., R. 30 E.

Sec. 1, Lots 1-16, inclusive, SW¼;

Sec. 3, Lots 1-12, inclusive;

Sec. 4, Lots 1-12, inclusive;

Sec. 5, Lots 1 & 2, Lots 5-8, inclusive;

Sec. 9, E½;

Sec. 10, All;

Sec. 11, Lots 1-16, inclusive;

Sec. 12, NW¼;

Sec. 13, S½;

Sec. 14, NE¼, SW¼NW¼, W½SW¼, SE¼SW¼, E½SE¼;

Sec. 17, N½N½;

Sec. 23, E½NE¼, SW¼NE¼, NW¼NW¼, S½SW¼, SE¼;

Sec. 26, NE¼, N½NW¼, S½SW¼.

T. 12 N., R. 31 E.

Sec. 21, All;

Sec. 22, Lots 1-4, inclusive, W½NE¼, W½, W½SE¼;

Sec. 27, Lots 1-4, inclusive, W½E½, W½;

Sec. 28, All;

Sec. 33,All;

Sec. 34, Lots 1-4, inclusive, W½E½, W½.

The areas described aggregate approximately 11,870.55 acres, more or less.

Group V: Application for Surface and/or Subsurface (Minerals and/or Oil and Gas)

Gila and Salt River Meridian, Arizona

T. 10 N., R. 29 E.

Sec. 18, E½.

T. 11 N., R. 28 E.

Sec. 14, E½E½, NW¼NE¼, SW¼SE¼.

T. 12 N., R. 28 E.

Sec. 10, NW¼SE¼;

Sec. 12, NW¼NE¼, NE¼NW¼, W½SW¼.

T. 12 N., R. 31 E.

Sec. 15, Lots 1-4, inclusive, W½E½, W½.

The areas described aggregate approximately 1,305.82 acres, more or less.

The segregation of the above described public lands shall terminate upon issuance of a document of conveyance to such lands, or upon publication in the Federal Register of a notice of termination of the segregation or the expiration of 2 years from the date of the filing of the selection application, whichever occurs first. However, where administrative appeal or review actions have been sought pursuant to Part 4 or Subparts 2450 of 43 CFR, the segregative period shall continue in effect until publication of a notice of termination of the segregation in the Federal Register.

Under the provisions Sections 2275 and 2276 of the Revised Statutes (43 U.S.C. Sections 851, 852), the State of Arizona has filed application AZA-32028 to acquire public lands in lieu of certain school lands that were encumbered by other rights or reservations before the State's title could attach. Pursuant to the provisions of 43 CFR 2091.3-1 the lands described below are segregated from settlement, sale, locations or entry under the public land laws, including the mining laws, but not the mineral leasing laws or Geothermal Steam Act. Inquiries concerning the segregation of the lands referenced above should be addressed to the Bill Ruddick, Project Manager, Arizona State Office, Bureau of Land Management, 222 North Central Avenue, Phoenix, Arizona 85004.

Dated: April 25, 2002.
Carl Rountree,
Associate State Director.

[FR Doc. 02-12909 Filed 5-22-02; 8:45 am]

BILLING CODE 4310-32-P